SECURITIES AND EXCHANGE COMMISSION

17 CFR Parts 270, and 275

[Release Nos. 34-100155A; IA-6604A; IC-35193A; File No. S7-05-23]

RIN 3235-AN26

Regulation S-P: Privacy of Consumer Financial Information and Safeguarding Customer Information; Correction

AGENCY: Securities and Exchange Commission.

ACTION: Final rule; correction.

SUMMARY: This document makes corrections to the amendatory instructions in Release No. 34-100155 (May 16, 2024), which was published in the Federal Register on June 3, 2024.

DATES: Effective date: This rule is effective August 2, 2024.

FOR FURTHER INFORMATION CONTACT: Andrew Deglin, Counsel; Bradley Gude, Branch Chief; or Brian McLaughlin Johnson, Assistant Director, Investment Company Regulation Office, Division of Investment Management, (202) 551-6792, Securities and Exchange Commission, 100 F Street NE, Washington, DC 20549.

SUPPLEMENTARY INFORMATION: In EFR Doc. 2024-11116, appearing on page 47688 in the Federal Register of Monday, June 3, 2024, the following corrections are made:

PART 270 [Corrected]

On page 47789, in the first column, in part 270, instruction 9, “The authority citation for part 270 is revised to read as follows:” is corrected to read “The general authority citation for part 270 is revised and the sectional authority citation for § 270.31a-2 continues to read as follows:”.

PART 275 [Corrected]

On page 47789, in the third column, in part 275, instructions 12 “The authority citation for part 275 is revised to read as follows:” is corrected to read “The general authority citation for part 275 is revised and the sectional authority citation for § 275.204-2 continues to read as follows:”.

Dated: June 21, 2024.
Vanessa A. Countryman,
Secretary.

[FR Doc. 2024-14031 Filed 6-26-24; 8:45 am]

BILLING CODE 8011-01-P